DEPARTMENT OF TRANSPORTATION

Federal Aviation Administration

Office of Commercial Space Transportation: Notice of Availability and Request for Comment on the Draft Environmental Assessment for Issuing SpaceX a Launch License for an In-Flight Dragon Abort Test, Kennedy Space Center, Brevard County, Florida

AGENCY: Federal Aviation Administration, DOT.

ACTION: Notice of availability and request for comment.

SUMMARY: In accordance with the National Environmental Policy Act of 1969, as amended (NEPA), Council on Environmental Quality NEPA implementing regulations, and FAA Order 1050.1F, Environmental Impacts: Policies and Procedures, the FAA is announcing the availability of and requesting comment on the Draft Environmental Assessment for Issuing SpaceX a Launch License for an In-flight Dragon Abort Test, Kennedy Space Center, Brevard County, Florida (Draft EA).

DATES: Comments must be received on or before December 31, 2018.

ADDRESSES: Comments should be mailed to Daniel Czelusniak, Environmental Protection Specialist, Federal Aviation Administration, 800 Independence Avenue SW, Suite 325, Washington, DC 20591. Comments may also be submitted by email to SpaceXDragonAbortEA@icf.com.

FOR FURTHER INFORMATION CONTACT: Daniel Czelusniak, Environmental Protection Specialist, Federal Aviation Administration, 800 Independence Avenue SW, Suite 325, Washington, DC 20591; phone (202) 267-5924; email SpaceXDragonAbortEA@icf.com.

SUPPLEMENTARY INFORMATION: The FAA is evaluating SpaceX's proposal to conduct a one-time in-flight Dragon abort test at Kennedy Space Center's Launch Complex 39A, which would require the FAA to issue a launch license. Issuing a launch license is considered a Federal action subject to environmental review under NEPA. Under the Proposed Action, the FAA would issue a license to SpaceX, which would authorize SpaceX to conduct the abort test using a Falcon 9 launch vehicle and a Dragon-2 (i.e., SpaceX's crew version of Dragon). Dragon-2 was developed with the intent to carry astronauts. The proposed abort test is part of SpaceX's commercial crew certification process with the National Aeronautics and Space Administration (NASA). The abort test is scheduled to occur in 2019.

Alternatives under consideration include the Proposed Action and the No Action Alternative. Under the No Action Alternative, the FAA would not issue a license to SpaceX to conduct the abort test, and therefore SpaceX would not conduct the abort test.

The Draft EA evaluates the potential environmental impacts from the Proposed Action and No Action Alternative on visual effects (including light emissions); coastal resources; air quality; climate; noise and noise-compatible land use; biological resources; water resources (surface waters); hazardous materials, solid waste, and pollution prevention; and historical, architectural, archeological, and cultural resources. Potential cumulative impacts are also addressed in the Draft EA.

The FAA has posted the Draft EA on the FAA Office of Commercial Space Transportation website: https://www.faa.gov/about/office_org/headquarters_offices/ast/environmental/nepa_docs/review/launch/.

The FAA encourages all interested parties to provide comments concerning the scope and content of the Draft EA. Before including your address, phone number, email address, or other personal identifying information in your comment, be advised that your entire comment—including your personal identifying information—may be made publicly available at any time. While you can ask the FAA in your comment to withhold from public review your personal identifying information, the FAA cannot guarantee that we will be able to do so.

Issued in Washington, DC, on November 15, 2018.
Daniel Murray,
Manager, Space Transportation Development Division.

[FR Doc. 2018-26075 Filed 11-29-18; 8:45 am]

BILLING CODE 4910-13-P